DEPARTMENT OF ENERGY

Federal Energy Regulatory Commission

[Docket No. CP03-80-001]

Eastern Shore Natural Gas Company; Notice of Intent To Prepare an Environmental Assessment for the Proposed Eastern Shore Natural Gas Company's Amended 2003-2005 Expansion Project and Request for Comments on Environmental Issues

January 31, 2005.

The staff of the Federal Energy Regulatory Commission (FERC or Commission) will prepare an environmental assessment (EA) that will discuss the environmental impacts of Eastern Shore Natural Gas Company's (ESNG) proposal to amend its certificate for its 2003-2005 Expansion Project. ESNG proposes to construct additional facilities to increase its system's capacity by 7,450 Dekatherms per day. The facilities would consist of four new pipeline segments on ESNG's existing system in Chester County, Pennsylvania and New Castle, Kent, and Sussex Counties, Delaware.

This notice announces the opening of the scoping period that will be used to gather environmental input from the public and interested agencies on the project. Please note that the scoping period will close on March 2, 2005.

This notice is being sent to potentially affected landowners; Federal, state, and local government agencies; elected officials; environmental and public interest groups; Native American Tribes, other interested parties; local libraries and newspapers. State and local government representatives are asked to notify their constituents of this planned project and encourage them to comment on their areas of concern.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” is available for viewing on the FERC Web site (http://www.ferc.gov). This fact sheet addresses a number of typically asked questions, including the use of eminent domain and how to participate in the Commission's proceedings. It is available for viewing on the FERC Internet Web site (http://www.ferc.gov).

Background

In the Commission's October 8, 2003 certificate order, ESNG was authorized to construct and operate certain mainline looping, upgrade a measuring and regulating station, and construct and operate a new pressure control station in three phases over a period of three years, 2003 through 2005.

Phase I consisted of the upgrade of the Parkesburg Measuring and Regulating Station in Chester County, Pennsylvania. Phase II consisted of construction of approximately 2.7 miles of 16-inch-diameter pipeline in Chester County, Pennsylvania. Phase III, as currently certificated, consists of approximately 3.0 miles of 16-inch-diameter pipeline. Construction of both Phase I and II has been completed and they are in service. Phase III would be constructed in 2005.

ESNG filed its original application in April 2003. At that time ESNG did not foresee additional customer growth which could result in a forecasted deficiency of firm capacity. Therefore, by requesting an amendment to it's certificate, ESNG will be able to provide for it's customer's increased volume requirements.

After experiencing a relatively cold January 2004 and continued growth of their customer base, several of ESNG's customers reviewed their load profiles in anticipation of responding to ESNG's most recent open season for 2006-2008 and realized that their current firm capacity entitlements were deficient under present peak day conditions. ESNG determined that the most practical, efficient, and effective way to seek authorization for the additional capacity requested by its customers for the 2005-2006 heating season was to request an amendment ¹ to the certificate issued in Docket No. CP03-80-000.

¹ ESNG's application was filed with the Commission under section 7 of the Natural Gas Act and part 157 of the Commission's regulations.

Summary of the Proposed Project

Segment 1—Chester County, Pennsylvania

• Segment 1 involves the installation of approximately 1.4 miles of 16-inch-diameter loop ² parallel to ESNG's existing 8-inch-diameter pipeline, located in Highland Township, Chester County, Pennsylvania. The proposed line ties in to the existing 8-inch-diameter pipeline at Glen Run Road and extends in a south-southeasterly direction for 1.4 miles to Lenover Road where it ties in to the existing 16-inch-diameter pipeline completed in 2004 as part of the facilities associated with Phase II of the original certificate under FERC Docket No. CP03-80-000. No aboveground facilities are associated with this segment.

² A loop is a segment of pipeline installed adjacent to an existing pipeline and which connects to the existing pipeline at both ends of the loop. The loop allows more gas to be moved through the system.

Segment 2—New Castle County, Delaware

• Segment 2 involves the installation of approximately 3.2 miles of 16-inch-diameter loop near Glasgow, Delaware, in New Castle County. The pipeline starts at a point on Pleasant Valley Road approximately 0.5 mile north of Route 40 where it will become an extension of the 16-inch-diameter pipeline approved as part of facilities associated with Phase III of the original certificate. The pipeline route runs southerly along Pleasant Valley Road for approximately 0.5 mile. The pipeline route then runs easterly along the north side of Route 40 for approximately 0.9 mile to an existing pipeline right-of-way. The route then diverts off of Route 40 and runs southerly along an existing ESNG pipeline right-of-way for approximately 0.3 mile. The route then runs easterly for approximately 0.5 mile until it intersects with Business Highway 896. The route then runs southerly along Business Highway 896 for approximately 0.9 mile until the intersection with Porter Road. The proposed pipeline then continues easterly along Porter Road for approximately 0.1 mile. This segment will include a new pressure control/regulator station to be constructed at MP 3.1.

Segment 3—Sussex County, Delaware

• Segment 3 involves the installation of approximately 10.3 miles of 6-inch-diameter loop from the City of Milford to the Town of Milton, in Sussex County, Delaware. This segment extends from ESNG's existing 6-inch-diameter pipeline on the east side of the City of Milford along Route 14 and Business Route 1 for approximately 2.0 miles, generally running in a southerly direction to Route 30. The route then continues southerly for approximately 8.0 miles along Route 30 to an intersection with Route 16 west of the City of Milton. This segment has a proposed new meter and regulation station constructed at the southern terminus.

Segment 4—Sussex County, Delaware

• Segment 4 involves the installation of approximately 6.0 miles of 10-inch-diameter loop parallel to ESNG's existing 6-inch-diameter pipeline between the Towns of Laurel and Delmar in Sussex County, Delaware. The proposed route ties in to ESNG's existing 6-inch-diameter pipeline south of the Town of Laurel. The route then runs southerly along Route 13 for roughly 6.0 miles to the Town of Delmar, Delaware north of the Delaware-Maryland State line. The proposed 10-inch-diameter pipeline ties in to ESNG's existing 6-inch-diameter pipeline on the southern terminus as well. No aboveground facilities are associated with this segment.

The location of the project facilities is shown in Appendix 1.³

³ The appendices referenced in this notice are not being printed in the Federal Register. Copies of all appendices, other than appendix 1 (maps), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Land Requirements for Construction

Construction of the proposed facilities would require about 220.5 acres of land. Following construction, about 8.9 acres would be maintained as new above ground facility sites and right-of-way. The remaining 211.6 acres of land would be restored and allowed to revert to its former use.

The EA Process

We ⁴ are preparing this EA to comply with the National Environmental Policy Act (NEPA) which requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. By this notice, we are also asking Federal, state, and local agencies with jurisdiction and/or special expertise with respect to environmental issues to formally cooperate with us in the preparation of the EA. Agencies that would like to request cooperating status should follow the instructions for filing comments below.

⁴ “We”, “us”, and “our” refer to the environmental staff of the Office of Energy Projects (OEP).

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

Currently Identified Environmental Issues

In the EA, we will discuss impacts that could occur as a result of the construction and operation of the project. We will also evaluate possible alternatives to the proposed project or portions of the project.

We have already identified several issues that we think deserve attention based on a preliminary review of the proposed facilities and the environmental information provided by ESNG. This preliminary list of issues may be changed based on your comments and our analysis.

Project-related impact on:

• 98 residences/structures within 50 feet of the construction workspace.

• 1.1 acres of wetland.

• 53.8 acres of agricultural land.

• Six federally-listed threatened and endangered species potentially in the project area.

• 28 road crossings.

Public Participation

You can make a difference by providing us with your specific comments or concerns about the project. By becoming a commentor, your concerns will be addressed in the EA and considered by the Commission. You should focus on the potential environmental effects of the proposal, alternatives to the proposal (including alternative locations and routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 1.

• Reference Docket Number CP03-80-001.

• Mail your comments so that they will be received in Washington, DC on or before March 2, 2005.

Please note that the Commission strongly encourages electronic filing of any comments or interventions or protests to this proceeding. See 18 CFR 385.2001(a)(1)(iii) and the instructions on the Commission's Web site at http://www.ferc.gov under the “e-Filing” link and the link to the User's Guide. Before you can file comments, you will need to create an account which can be created on-line.

Becoming an Intervenor

In addition to involvement in the EA scoping process, you may want to become an official party to the proceeding known as an “intervenor”. Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor you must file a motion to intervene according to Rule 214 of the Commission's Rules of Practice and Procedure (18 CFR 385.214, see Appendix 2).⁵ Only intervenors have the right to seek rehearing of the Commission's decision.

⁵ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

If you wish to remain on our environmental mailing list, please return the Information Request Form included in Appendix 2. If you do not return this form, you will be removed from our mailing list.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TYY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Magalie R. Salas,
Secretary.

[FR Doc. E5-450 Filed 2-3-05; 8:45 am]

BILLING CODE 6717-01-P